DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed extension collection of the following information collections: (1) Certification by School Official (CM-981); and (2) Records to be Kept by Employers (Fair Labor Standards Act). Copies of the proposed information collection requests can be obtained by contacting the office listed below in the addressee section of this Notice.

DATES: Written comments must be submitted to the office listed in the addresses section below on or before February 9, 2001.

ADDRESSES: Ms. Patricia A. Forkel, U.S. Department of Labor, 200 Constitution Ave., NW., Room S-3201, Washington, DC 20210, telephone (202) 693-0339 (this is not a toll-free number), fax (202) 693-1451.

SUPPLEMENTARY INFORMATION:

Certification by School Official (CM-981)

I. Background

In order to be a dependent who is eligible for black lung benefits, a child aged 18 to 23 must be a full-time student as described in the Black Lung Benefits Act, 30 U.S.C. 902(g), and 20 CFR 725.209 or 20 CFR 410.370. The form is partially completed by the school registrar and is used to verify full-time status of the student.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to determine continued eligibility of the student.

Type of Review: Extension.

Agency: Employment Standards Administration.

Title: Certification by School Official (CM-981).

OMB Number: 1215-0061.

Affected Public: Not-for-profit institutions; State, Local, or Tribal Government.

Frequency: Annually.

No. of Respondents: 1,000.

No. of Responses: 1,000.

Burden per Response: 10 minutes.

Estimated Total Burden Hours: 167.

Total Burden Cost (capital/startup): $0.

Total Burden Cost (operating/maintenance): $0.

Records To Be Kept by Employers (Fair Labor Standards Act)

I. Background

The Fair Labor Standards Act sets minimum wage, overtime pay, child labor and recordkeeping standards for employees engaged in interstate commerce or in the production of good for interstate commerce and to employees in certain enterprises. The Fair Labor Standards Act requires that all employers covered by the Act make, keep, and preserve records of employees and of wages, hours, an other conditions and practices of employment.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to carry out its responsibility to enforce the provisions of the Fair Labor Standards Act.

Review: Extension.

Agency: Employment Standards Administration.

Title: Records to be Kept by Employers (Fair Labor Standards Act).

OMB Number: 1215-0017.

Affected Public: Business or other for-profit; Individuals or households; Farms; Not-for-profit institutions; Federal government; State, local or Tribal government.

Total Recordkeepers: 3.7 million.

Frequency: Weekly.

Average Time per Recordkeeper: 1 hour.

Estimated Total Burden Hours: 926,156.

Total Burden Cost (capital/startup): $0.

Total Burden Cost (operating/maintenance): $0.

Comments submitted in response to this notice will be summarized and/or included in the request for Office of Management and Budget approval of the information collection request; they will also become a matter of public record.

Dated: December 5, 2000.
Margaret J. Sherrill,
Chief, Branch of Management Review and Internal Control, Division of Financial Management, Office of Management, Administration and Planning, Employment Standards Administration.

[FR Doc. 00-31453 Filed 12-8-00; 8:45 am]

BILLING CODE 4510-27-M